DEPARTMENT OF STATE

[Public Notice: 12798]

Meeting of the United States-Colombia Environmental Affairs Council and Environmental Cooperation Commission

AGENCY: U.S. Department of State.

ACTION: Notice of the upcoming United States-Colombia Environmental Affairs Council and Environmental Cooperation Commission meetings and request for comments; invitation to public session.

SUMMARY: The U.S. Department of State and the Office of the United States Trade Representative (USTR) are providing notice that the parties to the United States-Colombia Trade Promotion Agreement (TPA) intend to hold the second meeting of the Environmental Affairs Council (Council) established under Chapter 18 (Environment) of the TPA as well as the second meeting of the United States-Colombia Environmental Cooperation Commission (Commission) established under the United States-Colombia Environmental Cooperation Agreement (ECA), on September 5, 2025. The Council will review implementation of Chapter 18 of the TPA, and the Commission will review implementation of the ECA. During the Council and Commission meetings, Members will discuss the progress made in implementing Chapter 18 commitments and the impacts of environmental cooperation. The Commission will also review possible future environmental cooperation. More information on the Council and Commission is included below under SUPPLEMENTARY INFORMATION. All interested persons are invited to attend the Council and Commission joint public session in person beginning at 3:30 p.m. Bogota, Colombia time (4:30 p.m. Eastern Daylight Time) on September 5, 2025, in Bogota, Colombia, or submit written comments or suggestions in advance regarding Chapter 18 of the TPA and the ECA. Attendees will have the opportunity to ask questions and present views and comments on the issues the public considers relevant to the Council and Commission's work. In preparing comments, submitters are encouraged to refer to Chapter 18 of the TPA and the ECA (available at Current Trade Agreements With Environmental Chapters—United States Department of State). Instructions for submitting comments are provided below under ADDRESSES.

DATES: The public session of the Council and Commission will be held on September 5, 2025. Registration will be required to attend. Please contact Anel Gonzalez-Ruiz and Sigrid Simpson by August 29, 2025, to register for the public session. Comments or suggestions are requested in writing no later than August 29, 2025.

ADDRESSES: Written comments or questions and requests to attend should be submitted via email to both of the following points of contact and “United States-Colombia EAC/ECC Meetings” should be used in the subject line:

(1) Anel Gonzalez-Ruiz, U.S. Department of State, Bureau of Oceans and International Environmental and Scientific Affairs, Office of Environmental Quality, Gonzalez-RuizA@state.gov; and

(2) Sigrid Simpson, Office of Environment and Natural Resources, Office of the United States Trade Representative, Sigrid.A.Simpson@ustr.eop.gov.

In your email, please include your full name and affiliation.

FOR FURTHER INFORMATION CONTACT: Anel Gonzalez-Ruiz at (202) 705-5282, Gonzalez-RuizA@state.gov or Sigrid Simpson at (202) 881-6592, Sigrid.A.Simpson@ustr.eop.gov.

SUPPLEMENTARY INFORMATION: The United States and Colombia negotiated the United States-Colombia TPA and United States-Colombia ECA in concurrently. The TPA entered into force on May 12, 2012. Article 18.6 of the TPA establishes an Environment Affairs Council (Council). The Council discusses the implementation of Chapter 18 of the TPA, and its meetings include a public session. The Environmental Cooperation Commission (Commission) was established in Article III of the ECA. The Commission evaluates cooperative activities under the ECA, recommends options for improving cooperation, and establishes work programs that reflect national priorities and that identify the scope and focus of environmental cooperation activities. Commission meetings also include a public session.

Visit http://www.state.gov and the USTR website at www.ustr.gov for more information.

Andrew D. Clark,
Acting Director, Office of Environmental Quality, U.S. Department of State.

[FR Doc. 2025-15475 Filed 8-13-25; 8:45 am]

BILLING CODE 4710-09-P